DEPARTMENT OF ENERGY

National Energy Technology Laboratory; Notice of Availability of a Financial Assistance Solicitation

AGENCY: National Energy Technology Laboratory, Department of Energy (DOE).

ACTION: Notice of Availability of a Financial Assistance Solicitation.

SUMMARY: Notice is hereby given of the intent to issue Financial Assistance Solicitation No. DE-PS26-02NT15375 entitled “Public Resources Invested in Management and Extraction (PRIME) .” The Department of Energy (DOE) National Energy Technology Laboratory (NETL), on behalf of its National Petroleum Technology Office (NPTO), seeks applications for cost-shared long-term (7-10 years), high-risk research and development (R & D), including fundamental research and optimization of important, state-of-the art oil/gas technologies, for future applications on domestic areas including on state and federal lands and waters. These longer-term, high-risk research activities emphasize new concepts and/or approaches that may lead to significant revolutionary (i.e., not evolutionary) advancements in the state-of-the-art oil/gas technology by reducing risks, costs, and environmental impacts associated with finding and producing U.S. petroleum resources. The projects in this program may be designed to yield specific solutions to exploration and production problems including issues of public lands, and allowing real returns from these lands and waters while preserving the Nation's asset.

The goal is to develop world class technologies that will provide the domestic industry a leadership role in discovery and the development of undiscovered or previously unattainable resources. This new initiative will focus longer-term fundamental R&D in the following three broad areas: (1) Oil and Gas Recovery Technology, (2) Advanced Drilling, Completion, Stimulation, and Operations (ADCS), or (3) Advanced Diagnostic and Imaging Systems (ADIS) and Reservoir Characterization.

DATES: The solicitation will be available on the DOE/NETL's Internet address at http://www.netl.doe.gov/business and on the “Industry Interactive Procurement System” (IIPS) webpage located at http://e-center.doe.gov on or about May 31, 2002.

FOR FURTHER INFORMATION CONTACT: Keith R. Miles, U.S. Department of Energy, National Energy Technology Laboratory, P.O. Box 10940, MS 921-107, Pittsburgh, PA 15236, E-mail Address: miles@netl.doe.gov, Telephone Number: 412-386-5984.

SUPPLEMENTARY INFORMATION: The Department of Energy, National Energy Technology Laboratory's Fossil Energy—Oil and Gas Program plans to initiate a fundamental research and development (R&D) program (PRIME) in exploration and production technologies during FY-2002. This new initiative differs from the current Fossil Energy—Oil and Gas Program in that it stresses high-risk research that may require multiple years to develop from the concept phase. Such R&D activities warrant the longer-term investment of resources from which one to several breakthroughs may result in significant advancements in our understanding and subsequent development in technologies applicable to petroleum exploration and production.

The three areas of interest for this solicitation are:

Area of Interest 1—Oil and Gas Recovery Technology

The production research program has historically targeted oil reservoirs that contain around 200 billion barrels of oil that are potentially recoverable by conventional Enhanced Oil Recovery (EOR) methods. This program has been subdivided into the areas, (1) chemical methods, (2) gas flooding, (3) microbial methods, (4) heavy oil recovery, (5) novel methods, and (6) reservoir simulation. Each area addresses one or more specific portions of the resource base.

However, new technologies and concepts are being developed so there may be new areas that do not fit into the present EOR methods. This initiative is to focus on new technologies with longer-term R&D potential (recovery processes which are only at the concept stage), which may help recover additional oil but are currently outside the traditional methods.

Area of Interest 2—Advanced Drilling, Completion, Stimulation, and Operations (ADCS)

Currently producers and service providers in the oil and gas industry are being asked to reach deeper depths with a minimum of damage to the producing formation and at a cost well below traditional methods. What the industry needs is safe, lower cost drilling systems whose use can be considered value added and not simply a cost to the project. Technology that increases the ultimate production and creates access to the remote sites with a minimum disturbance and have the ability to drill and complete wells while protecting the environment is essential in the effort to develop remote areas.

DOE is looking for projects with the potential to create technological breakthroughs and surmount the current barriers to drilling and production. Projects should use an integrated system approach to the problems. The needs identified as high priority by a group of industry and research representatives in the ADCS area are:

• Miniaturization and materials development—The operational and mobilization costs associated with drilling and completion must be reduced significantly without sacrificing any performance. It will be necessary to develop beyond our current capabilities in the offshore and deep onshore to access the deeper targets economically and also to reduce the exploration costs. Research to improved performance and reliability must increase radically in order to reach some targets. DOE is accepting proposals for revolutionary development that would come into use after 2010. Such breakthroughs could lead to reductions in mobilization costs and increase the economics of a prospect. This may be achieved through breakthroughs in the following areas:

(1) Materials development that would allow the design of lighter, yet robust systems for drilling and operations.

(2) Miniaturization without loss of performance or reliability would effectively reduce space and weight requirements so critical to remote locations and ultradeep offshore development and exploration.

• Fluid/flow identification—It is critical to identify flow and fluids the horizontal leg of a well and in multi-lateral wells. The need for “smart pipes” and robust diverse sensors are suitable for such work. In particular, the identification must be in space. Parameters could include pressure, temperature, density, specific gravity, flow rate, flow volume, acoustics, orientation, motion or vibration, electrical or acoustical conductivity, radioactivity, and chemical composition.

• Separation technology—Downhole separation technology along with seafloor separation technology will be critical to the offshore industry and reduce the costs associated with produced water and waste issues. The technology has not advanced to fully address multi-lateral well designs or separation in the horizontal leg of a well. Proposals are sought for two topics in this area:

(1) Issues related to downhole separation—Radical design of downhole separation technology is critical to handle higher flow rates, fit into 8″ diameter and less wells, operate effectively at high water cuts, be able to handle solids, maintain better separation efficiency and high product quality.

(2) Subsea separation—The separation technology suitable to reduce cost associated with water lifting to the surface and address the associated disposal issues could create economic targets offshore that are currently marginal. Significant breakthroughs in this area are sought.

Area of Interest 3—Advanced Diagnostic and Imaging Systems (ADIS) and Reservoir Characterization

High risk, long term new research applications are solicited for finding new domestic oil/gas reserves. The research may be focused to develop innovative geologic system models and exploration concepts for analysis of U.S. basins for new and overlooked fairways (field-to-basin scales).

The potential is focused on the development and application of new geoscientific and engineering concepts in high oil/gas potential basins on public lands and waters. Technology is needed to increase accuracy and resolution of seismic and other geological and geophysical methods. New methodology is solicited for interpretation and integration of multiple technology, and data sets into refined geologic and engineering models that guide discovery of new oil reserves, oil field development, and management for maximum economic oil recovery.

DOE currently has available $3.5 million for this Program Solicitation (PS) and the proposed budget for this program over 5 years is $23.5 million of DOE support. The total program of PRIME may be $30 million for a period of 7-10 years. It is anticipated that between 10-20 cost-shared awards, with a total project value estimated at $1.0 million to $1.5 million each (i.e., DOE share of project costs estimated at between $750K-$1,000K), will be made under this solicitation. The applicant must cost share a minimum of 20% of the total project cost. Projects must be structured with two (2) phases (i.e., Budget Periods) which include: idea and/or concept development (Budget Period 1) and initiation of proof-of-concept activities (Budget Period 2).

The research conducted in this program will provide support for foundation-building R&D in universities and the national laboratories and maintain the leadership of the United States in oil and gas technologies. It is envisioned that a teaming of expertise from academic, private research organizations, state and federal agencies in collaboration with industry may be needed to focus efforts on overcoming key scientific and engineering hurdles. Applications submitted by or on behalf of (1) another Federal agency; (2) a Federally Funded Research and Development Center sponsored by another Federal agency; or (3) a Department of Energy (DOE) Management Operating (M&O) contractor will not be eligible for award under this solicitation. However, an application that includes performance of a portion of the work by a DOE National Laboratory and/or M&O contractor will be evaluated and may be considered for award subject to the provisions to be set forth in Program Solicitation DE-PS26-02NT15375. (Note: The limit on participation by a National Laboratory and/or M&O contractor for an individual project under this solicitation cannot exceed 25% of the total project cost).

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available.

Prospective applicants who would like to be notified as soon as the solicitation is available should subscribe to the Business Alert Mailing List at http://www.netl.doe.gov/business. Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA, on May 3, 2002.
Dale A. Siciliano,
Deputy Director, Acquisition and Assistance Division.

[FR Doc. 02-11915 Filed 5-10-02; 8:45 am]

BILLING CODE 6450-01-P